DEPARTMENT OF DEFENSE

Office of the Secretary

[Docket ID: DoD-2023-HA-0103]

Proposed Collection; Comment Request

AGENCY: Office of the Assistant Secretary of Defense for Health Affairs (OASD(HA)), Department of Defense (DoD).

ACTION: 60-Day information collection notice.

SUMMARY: In compliance with the Paperwork Reduction Act of 1995, the Defense Health Agency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 19, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Health Agency, 7700 Arlington Blvd., Falls Church, VA 22042, Amanda Grifka, 703-681-1771.

SUPPLEMENTARY INFORMATION:

Title; Associated Form; and OMB Number: United States Army Medical Research Institute of Infectious Diseases (RIID) Incoming Workforce Personnel Data Sheet; OMB Control Number 0720-RIID.

Needs and Uses: The Incoming Workforce Personnel Data Sheet is being used for basic workforce (WF) tracking. It is entered into the United States Army Medical Research Institute of Infectious Diseases (RIID) system of record (i.e., WF System) for its combined workforce which comprises of Federal employees, active duty service members, contractors, and external workers (i.e., other agency personnel, interns, volunteers, etc.). The collected information is used to track basic personnel data (i.e., name, work email, division, supervisor, etc.), facilitate workflows and processes needed to maintain such data, and provide methods that integrate the individuals' organizational related data (i.e., workforce type, work email, office location, division, supervisor, etc.) with other internal functions/systems. The application housing this information will not be accessible via mobile means and will be protected behind a firewall that is only accessible when connected to the organization's local area network (LAN). The application will be solely owned and operated by the organization.

The recipient either (1) completes the data sheet or (2) provides the requested information in-person at the time of in-processing. If the document is prepared in advance to in-processing, it is either submitted by their employer (i.e., contract company) or by themselves via a secured means of transmission (i.e., encrypted email) or in-person (i.e., hand-delivered) at the time of their in-processing.

Affected Public: Individuals or households.

Annual Burden Hours: 4.2.

Number of Respondents: 50.

Responses per Respondent: 1.

Annual Responses: 50.

Average Burden per Response: 5 minutes.

Frequency: As required.

Dated: October 16, 2023.
Aaron T. Siegel,
Alternate OSD Federal Register Liaison Officer, Department of Defense.

[FR Doc. 2023-23137 Filed 10-19-23; 8:45 am]

BILLING CODE 6001-FR-P